DEPARTMENT OF TRANSPORTATION

National Highway Traffic Safety Administration

49 CFR Parts 571

[Docket No. NHTSA-2009-0116]

RIN 2127-AK35

Federal Motor Vehicle Safety Standards; Door Locks and Door Retention Components

AGENCY: National Highway Traffic Safety Administration (NHTSA), Department of Transportation (DOT).

ACTION: Final rule, response to petitions for reconsideration.

SUMMARY: This final rule delays the compliance date of the sliding door provisions of a February 6, 2007 final rule, from September 1, 2009 to September 1, 2010. The February 6, 2007, final rule amended the Federal motor vehicle safety standard on door locks and door retention components to add and update requirements and test procedures and to harmonize with the world's first global technical regulation for motor vehicles. NHTSA received four petitions for reconsideration of that final rule, including two that requested a delay in the effective date of the sliding door provisions of the rule, and others which raised concerns about some of the new test requirements and procedures. To accommodate manufacturers' design and production cycles while allowing the agency more time to analyze the petitions in regards to other issues, the agency is delaying the compliance date of the sliding door provisions of S4.2.2 until September 1, 2010.

DATES: This final rule is effective September 1, 2009. Any petitions for reconsideration of today's final rule must be received by NHTSA not later than September 3, 2009.

ADDRESSES: Any petitions for reconsideration should refer to the docket number of this document and be submitted to: Administrator, National Highway Traffic Safety Administration, 1200 New Jersey Avenue, SE., West Building, Washington, DC 20590. Note that all documents received will be posted without change to the docket, including any personal information provided. Please see the Privacy Act discussion under the Rulemaking Analyses and Notices section below.

FOR FURTHER INFORMATION CONTACT: For non-legal issues, contact Ms. Shashi Kuppa, Office of Crashworthiness Standards, by telephone at (202) 366-4909, or by fax at (202) 366-2990. For legal issues, contact Ms. Sarah Alves, Office of the Chief Counsel, by telephone at (202) 366-2992, or by fax at (202) 366-3820.

Both persons may be reached by mail at the following address: National Highway Traffic Safety Administration, U.S. Department of Transportation, 1200 New Jersey Avenue, SE., Washington, DC 20590.

SUPPLEMENTARY INFORMATION:

I. Background

On November 18, 2004, the Executive Committee of the United Nations Economic Commission for Europe (UNECE) approved the world's first global technical regulation (GTR) for motor vehicles, a GTR on door locks and door retention components which addressed inadvertent door openings in crashes.¹ With the establishment of a GTR and having voted in favor of it, the U.S., as a contracting party to the 1998 Agreement,² initiated rulemaking to adopt the provisions of the global standard.³ On December 15, 2004, NHTSA issued a notice of proposed rulemaking (NPRM) proposing to update Federal Motor Vehicle Safety Standard (FMVSS) No. 206, Door locks and door retention components, and provide consistency with the GTR (69 FR 75021; Docket No. NHTSA-2004-19840-1). The NPRM comment period closed on February 14, 2005 and 11 commenters provided responses.

¹ World Forum for Harmonization of Vehicle Regulations (WP.29), Global Technical Regulation No. 1 Door Locks and Door Retention Components, U.N. Doc. ECE/TRANS/180/Add.1 (Nov. 18, 2004), available at http://www.unece.org/trans/main/wp29/wp29wgs/wp29gen/wp29registry/gtr1.html.

² The 1998 UNECE Agreement Concerning the Establishment of Global and Technical Regulations for Wheeled Vehicles, Equipment and Parts Which Can Be Fitted And/Or Be Used On Wheeled Vehicles (1998 Agreement) was concluded under the auspices of the United Nations and provides for the establishment of globally harmonized vehicle regulations. This 1998 Agreement, whose conclusion was spearheaded by the United States, entered into force in 2000 and is administered by the UNECE's World Forum for the Harmonization of Vehicle Regulations (WP.29). See http://www.unece.org/trans/main/wp29/wp29wgs/wp29gen/wp29glob.html.

³ While the 1998 Agreement obligates such Contracting Parties to begin their processes, it leaves the ultimate decision of whether to adopt the GTR into their domestic law to the parties themselves.

Following the NPRM, on February 6, 2007, NHTSA published a final rule amending FMVSS No. 206.⁴ Consistent with the GTR and the NPRM, the final rule added test requirements and test procedures for sliding doors, added secondary latched position requirements for doors other than hinged side doors and back doors, provided a new optional test procedure for assessing inertial forces, and extended the application of FMVSS No. 206 to buses with a gross vehicle weight rating of less than 4,536 kilograms (10,000 pounds), including 12-15 passenger vans. The final rule also eliminated an exclusion from the requirements of the standard for doors equipped with wheelchair platform lifts.

⁴ Docket No. NHTSA-2006-23882; 72 FR 5385 (Feb. 6, 2007).

After considering the comments, the agency decided on an effective date of September 1, 2009 for the amendments established by the February 2007 final rule. Optional early compliance was permitted. NHTSA stated in the February 2007 final rule that the agency believed this effective date provided manufacturers adequate time to make the necessary design changes. NHTSA also believed that the majority of vehicles already comply with the upgrades of the rulemaking, and that those not currently complying should not need significant changes to come into compliance. In addition, the agency stated that we did not believe it was necessary or appropriate to tie the effective date for the February 2007 final rule with that of a then-pending upgrade of FMVSS No. 214, Side impact protection, since that would result in unnecessary delay in obtaining the benefits from the February 2007 final rule.

II. Overview of Petitions for Reconsideration and Agency Response

In response to the February 2007 final rule, NHTSA received petitions for reconsideration from: the Alliance of Automobile Manufacturers (Alliance), the Ford Motor Company (Ford), Advocates for Highway Safety, and Thomas Built Buses, Inc. The petitions addressed a wide range of FMVSS No. 206 issues, including technical issues and requests to change the effective date of the final rule. The Alliance petitioned to make changes to the requirements and test procedures for sliding doors and either to phase in the entire final rule with full implementation in 2012 or to delay the effective date of just the sliding door test requirements until 2012. Ford petitioned to extend the effective date of the entire final rule or at a minimum change the date as it pertained to sliding doors.

The petitions for reconsideration have asked the agency to reconsider many technical aspects of that rulemaking relating to specifics of test procedures, which were for the most part not significant issues. However, NHTSA's response to the petitions is not yet complete, and given the approach of the September 1, 2009 effective date, the agency wishes to respond to the issues of the petitions in parts, with a response today to the effective date issue. Today's final rule delays the compliance date of the sliding door provisions of S4.2.2 of the February 2007 final rule until September 1, 2010, while retaining the original effective date of September 1, 2009 for all other provisions of the final rule. Other issues raised in the petitions for reconsideration will be addressed by the agency in a subsequent document.

III. Discussion

In the February 2007 final rule, after considering the comments and other information, the agency decided on an effective date of September 1, 2009 for the new FMVSS No. 206 requirements. NHTSA believed this effective date provided manufacturers adequate time to make the necessary design changes. Both the Alliance and Ford petitioned NHTSA to extend the effective date of the February 2007 final rule until 2012. Several reasons were suggested by the petitioners.

The first related to the technical basis for the agency's decision. In the final rule, the agency determined that the effective date of September 1, 2009 was reasonable based on tests conducted by NHTSA's Vehicle Research & Test Center (VRTC) and by Transport Canada indicating that the vehicles tested would meet the requirements under consideration. In its petition for reconsideration, Ford stated that the sample evaluation of vehicles tested by VRTC was not all inclusive and did not reflect the complete status of today's fleet. In its March 23, 2007 petition for reconsideration, and in an April 4, 2007 meeting with NHTSA to discuss its petition for reconsideration,⁵ Ford expressed concern with its inability to meet the new requirements for sliding doors for large vans by the effective date specified in the February 2007 final rule (September 1, 2009).⁶ Ford presented test data demonstrating its position that not all large vans are equipped with two latch systems on their sliding doors and that these vans do not comply with the sliding door test requirements. Based on the test data, Ford contends that significant redesign efforts will be needed to comply with the new sliding door specifications in the February 2007 final rule. In addition, in its petition for reconsideration the Alliance stated that its member companies have not yet tested or certified their sliding door-equipped vehicles to the new test procedure and needed more time to evaluate their vehicles.

⁵ See Docket No. NHTSA-2006-23882-0011 (Apr. 22, 2007).

⁶ In its petitions for reconsideration, Ford requested confidential treatment for certain pages labeled “Confidential” Or “Entire Page Confidential.” The agency granted confidentiality to these pages through a letter dated April 4, 2007 from the Office of Chief Counsel.

Second, both the Alliance and Ford believed that NHTSA should align the February 2007 final rule effective date with that of the new pole test for FMVSS No. 214, Side Impact Protection,⁷ because the same area of the vehicle must be modified to meet the requirements for both FMVSS Nos. 206 and 214. This is a view that the Alliance had expressed in its comment to the NPRM, to which the agency had responded in the final rule. In its petition for reconsideration, the Alliance stated that all current vehicles with a sliding door having a single latching system design will require major structural modifications to the B-pillar(s) and door(s) to accommodate a two-latch design. The petitioner believed that, since both standard upgrades require major structural modifications on the same areas of the vehicle, it would be most efficient to coordinate these changes to meet both requirements simultaneously.⁸

⁷ NHTSA amended FMVSS No. 214 by incorporating a dynamic pole test into the standard (among other updates), which will require vehicle manufacturers to assure head and improved chest protection in side crashes, by installing new technologies such as side curtain air bags and torso side air bags. See 72 FR 51908 (Sept. 11, 2007); response to petitions for reconsideration, 73 FR 32473 (June 9, 2008).

⁸ The Alliance's revised petition for reconsideration (based on its projections about the then-pending FMVSS No. 214 final rule) requested a change in the effective date schedule as follows: September 1, 2011—20%; September 1, 2012—50%; September 1, 2013—100%. NHTSA published the FMVSS No. 214 final rule and response to petitions for reconsideration after submission of the petition. Under these final rules, the phase in schedule for FMVSS No. 214 begins September 1, 2010 and ends for vehicles made in one stage September 1, 2015. 73 FR 32473, supra.

Third, the petitioners believed that the effective date as is pertains to sliding doors should be postponed until 2012, to coincide with the implementation of the door locks and door retention components GTR in Europe. Ford believed that the February 2007 final rule is primarily intended to harmonize requirements internationally and does not add to real world safety benefits, so therefore an implementation date consistent with GTR implementation timing in Europe is reasonable and warranted.

Agency Response

The petitioners are correct that the agency's determination of an effective date of September 1, 2009 was based on tests of only smaller vans. Table 1 below, “Transport Canada and VRTC Sliding Door Evaluation Test Results,” provides a summary of Transport Canada's and VRTC's tests used to develop the February 2007 final rule. The table identifies the makes and models of the vehicles tested, the number of sliding door latches, and whether the vehicle passed the required load and allowable door separation requirements.

Table 1—Transport Canada and VRTC Sliding Door Evaluation Test Results
Model year | Make | Model | Number of latches | Pass/fail load and 4″ gap proposal
Transport Canada Test Results
1995 | Dodge | Caravan | 1 | Fail.
1998 | Dodge | Caravan | 1 | Fail.
2000 | Mazda | MPV | 1 | Fail.
1999 | Honda | Odyssey | 1 | Fail.
1997 | Chevy | Venture | 2 | Pass.
2000 | Pontiac | Transport | 2 | Pass.
1998 | Ford | Windstar | 2 | Pass.
1999 | Ford | Windstar | 2 | Pass.
VRTC Test Results
1993 | Dodge | Caravan | 1 | Fail.
2001 | Dodge | Caravan | 1 | Fail.
1992 | Chevy | Lumina | 1 | Fail.
2002 | Honda | Odyssey | 1 | Fail.
2001 | Ford | Windstar | 2 | Pass.

Table 1 shows that evaluation testing was only conducted on mini-vans. Table 1 also indicates that all the vehicles that passed the 100 millimeter (mm) limit of door separation specified in the sliding door test requirement were equipped with two latch systems while all those that failed were equipped with one latch system.⁹ As shown in Table 1, large vans were excluded from evaluation testing. The agency did not test large vans sliding doors because it believed at the time that these doors were equipped with two latching systems.

⁹ The table indicates that generally, all early model minivans are equipped with one sliding door latching systems while newer minivans have two latching systems.

The agency has reconsidered the Transport Canada and VRTC test data in light of the information from Ford. We continue to believe that the majority of the current fleet already complies with the sliding door test. Most sliding doors in the fleet have two latching systems, with a latching system on the front and the rear edges of the door, and are capable of meeting the sliding door requirements in the final rule without design modifications. However, we recognize that vehicles with one latching system are generally unable to meet the force load requirement or the allowable door separation limitation and that information from Ford indicates that many large van sliding doors currently have only one latch. Thus, many large vehicles will need to have an additional latch installed on the sliding doors. While this design change to vehicles with one latching system is not significant, an additional year to meet S4.2.2 of the 2007 final rule will better enable manufacturers to assess their vehicles and accommodate needed changes within design and production cycles. Accordingly, we are delaying the compliance date of the sliding door provisions of S4.2.2 of the February 2007 final rule until September 1, 2010, to provide manufacturers another year of lead time.

However, we are retaining the original effective date of September 1, 2009 for all other provisions of the final rule. We do not agree that significant design changes will be needed to comply with the requirements of FMVSS No. 206. Ford stated that vehicles not meeting the upgraded standard experienced deformation and damage to the sheet metal of the B and C-Pillar, the door sliding track, and the latch. We also observed similar sheet metal and track damage as that reported by Ford in the minivans with a single latching system that failed the sliding door test requirements. However, vehicles with sliding doors equipped with two latch systems were able to meet the sliding door test requirements in the standard without extensive damage to the sheet metal, door track or latch. Thus, NHTSA believes that it is likely that if Ford's large van sliding door were equipped with two latch systems, the vehicle would pass the requirements without a significant redesign of the surrounding structure.

We reiterate our conclusion in the February 2007 final rule that aligning the effective date of the FMVSS No. 206 final rule with that of the FMVSS No. 214 upgrade is unwarranted.¹⁰ The door lock and door retention components requirements do not affect the same vehicle structural components that may require modification to meet the FMVSS No. 214 upgrade requirements. The tests for the two rulemakings are very different, and the test for this rule is not a dynamic crash test. Since vehicles with two latch systems were able to meet the standard's requirements without extensive damage to the sheet metal, door track, or other components, we believe that the sheet metal damage cited by Ford is not determinative for complying with the FMVSS No. 206 requirements. As such, we do not believe it would be appropriate to tie the effective date for this rule with that of the side impact upgrade, since that would result in unnecessary delay in obtaining the benefits from this rule.

¹⁰ 72 FR at 5396.

As for the arguments to align the effective date to the implementation of the GTR in Europe, NHTSA is not obligated by the 1998 Agreement to harmonize effective dates of GTRs with other countries. The GTR process allows each country to develop its own implementation schedule of the rule. Therefore, we reject Ford's assertion that “an effective date consistent with GTR implementation timing in Europe is reasonable and warranted.” Extending the compliance date of the sliding door provisions until September 1, 2010 gives sufficient time for necessary modifications to comply with the new test requirements while ensuring that the benefits from the rule will be achieved in the U.S. as quickly as possible. Therefore, we are retaining the final rule effective date of September 1, 2009, with the exception of extending the effective date of the sliding door provisions of S4.2.2 to September 1, 2010 to accommodate manufacturers' design and production cycles.

IV. Effective Date of This Document

Because September 1, 2009 (the original effective date for the February 2007 final rule) is fast approaching, NHTSA finds for good cause that this action delaying the compliance date should take effect immediately. Today's final rule makes no substantive changes to FMVSS No. 206, but delays the compliance date of the sliding door provisions of S4.2.2 of the February 6, 2007 final rule until September 1, 2010 while the agency responds to the petitions for reconsideration of the rule.

V. Rulemaking Analyses and Notices

Executive Order 12866 and DOT Regulatory Policies and Procedures

This rulemaking document was not reviewed by the Office of Management and Budget under E.O. 12866. It is not considered to be significant under E.O. 12866 or the Department's Regulatory Policies and Procedures (44 FR 11034; February 26, 1979). Although the February 6, 2007 final rule was significant due to public interest in the issues, this postponement of the compliance date of the sliding door provisions of S4.2.2 of the February 6, 2007 final rule until September 1, 2010 is not significant. This final rule does not impose any requirements on any manufacturer. The minimal impacts of today's amendment do not warrant preparation of a regulatory evaluation.

Executive Order 13132 (Federalism)

NHTSA has examined today's final rule pursuant to Executive Order 13132 (64 FR 43255, August 10, 1999) and concluded that no additional consultation with States, local governments or their representatives is mandated beyond the rulemaking process. The agency has concluded that the rule does not have federalism implications because the rule does not have “substantial direct effects on the States, on the relationship between the national government and the States, or on the distribution of power and responsibilities among the various levels of government.”

Further, no consultation is needed to discuss the preemptive effect of today's rule. NHTSA rules can have preemptive effect in at least two ways. First, the National Traffic and Motor Vehicle Safety Act contains an express preemptive provision: “When a motor vehicle safety standard is in effect under this chapter, a State or a political subdivision of a State may prescribe or continue in effect a standard applicable to the same aspect of performance of a motor vehicle or motor vehicle equipment only if the standard is identical to the standard prescribed under this chapter.” 49 U.S.C. 30103(b)(1). It is this statutory command that preempts State law, not today's rulemaking, so consultation would be unnecessary.

Second, the Supreme Court has recognized the possibility of implied preemption. State requirements imposed on motor vehicle manufacturers, including sanctions imposed by State tort law, can stand as an obstacle to the accomplishment and execution of a NHTSA safety standard. When such a conflict is discerned, the Supremacy Clause of the Constitution makes the State requirements unenforceable. See Geier v. American Honda Motor Co., 529 U.S. 861 (2000). NHTSA has considered today's final rule and does not currently foresee any potential State requirements that might conflict with it. Without any conflict, there could not be any implied preemption.

Executive Order 13045

Executive Order 13045 (62 FR 19885, April 23, 1997) applies to any rulemaking that: (1) Is determined to be “economically significant” as defined under E.O. 12866, and (2) concerns an environmental, health or safety risk that NHTSA has reason to believe may have a disproportionate effect on children. If the regulatory action meets both criteria, we must evaluate the environmental health or safety effects of the planned rule on children, and explain why the planned regulation is preferable to other potentially effective and reasonably feasible alternatives considered by us.

This rulemaking is not subject to the Executive Order because it is not economically significant as defined in E.O. 12866.

Executive Order 12988 (Civil Justice Reform)

With respect to the review of the promulgation of a new regulation, section 3(b) of Executive Order 12988, “Civil Justice Reform” (61 FR 4729, February 7, 1996) requires that Executive agencies make every reasonable effort to ensure that the regulation: (1) Clearly specifies the preemptive effect; (2) clearly specifies the effect on existing Federal law or regulation; (3) provides a clear legal standard for affected conduct, while promoting simplification and burden reduction; (4) clearly specifies the retroactive effect, if any; (5) adequately defines key terms; and (6) addresses other important issues affecting clarity and general draftsmanship under any guidelines issued by the Attorney General. This document is consistent with that requirement.

Pursuant to this Order, NHTSA notes as follows. The preemptive effect of this rule is discussed above. NHTSA notes further that there is no requirement that individuals submit a petition for reconsideration or pursue other administrative proceeding before they may file suit in court.

Regulatory Flexibility Act

Pursuant to the Regulatory Flexibility Act (5 U.S.C. 601 et seq., as amended by the Small Business Regulatory Enforcement Fairness Act (SBREFA) of 1996) whenever an agency is required to publish a notice of rulemaking for any proposed or final rule, it must prepare and make available for public comment a regulatory flexibility analysis that describes the effect of the rule on small entities (i.e., small businesses, small organizations, and small governmental jurisdictions). However, no regulatory flexibility analysis is required if the head of an agency certifies the rule would not have a significant economic impact on a substantial number of small entities. SBREFA amended the Regulatory Flexibility Act to require Federal agencies to provide a statement of the factual basis for certifying that a rule would not have a significant economic impact on a substantial number of small entities.

I certify that this final rule does not have a significant economic impact on a substantial number of small entities. This rule affects motor vehicle manufacturers, multistage manufacturers and alterers, but the entities that qualify as small businesses will not be significantly affected by this rulemaking. This final rule does not establish new requirements, but instead only adjusts an effective date of one of the provisions of the February 2007 final rule.

National Environmental Policy Act

We have analyzed this final rule for the purposes of the National Environmental Policy Act and determined that it does not have any significant impact on the quality of the human environment.

Paperwork Reduction Act

Under the Paperwork Reduction Act of 1995, a person is not required to respond to a collection of information by a Federal agency unless the collection displays a valid OMB control number. The final rule does not contain any new information collection requirements.

National Technology Transfer and Advancement Act

Section 12(d) of the National Technology Transfer and Advancement Act of 1995 (NTTAA), Public Law 104-113, section 12(d) (15 U.S.C. 272) directs us to use voluntary consensus standards in its regulatory activities unless doing so would be inconsistent with applicable law or otherwise impractical. Voluntary consensus standards are technical standards (e.g., materials specifications, test methods, sampling procedures, and business practices) that are developed or adopted by voluntary consensus standards bodies, such as the Society of Automotive Engineers (SAE). The NTTAA directs us to provide Congress, through OMB, explanations when we decide not to use available and applicable voluntary consensus standards.

No voluntary consensus standards were used in developing today's final rule because this final rule only adjusts an effective date of one of the provisions of the standard. There are no voluntary standards that address the subject of this rulemaking.

Unfunded Mandates Reform Act

Section 202 of the Unfunded Mandates Reform Act of 1995 (UMRA) requires Federal agencies to prepare a written assessment of the costs, benefits and other effects of proposed or final rules that include a Federal mandate likely to result in the expenditure by State, local or tribal governments, in the aggregate, or by the private sector, of more than $100 million in any one year (adjusted for inflation with base year of 1995). Before promulgating a NHTSA rule for which a written statement is needed, section 205 of the UMRA generally requires us to identify and consider a reasonable number of regulatory alternatives and adopt the least costly, most cost-effective or least burdensome alternative that achieves the objectives of the rule. The provisions of section 205 do not apply when they are inconsistent with applicable law. Moreover, section 205 allows us to adopt an alternative other than the least costly, most cost-effective or least burdensome alternative if we publish with the final rule an explanation why that alternative was not adopted.

The final rule will not impose any unfunded mandates under the Unfunded Mandates Reform Act of 1995. This rulemaking does not meet the definition of a Federal mandate because it would not result in costs of $100 million (adjusted annually for inflation with a base year of 1995 or 116 million in 2003 dollars) or more to either State, local, or tribal governments, in the aggregate, or to the private sector. Thus, this rulemaking is not subject to the requirements of sections 202 and 205 of the UMRA.

Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Privacy Act

Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

List of Subjects in 49 CFR Part 571

Motor vehicle safety, Reporting and recordkeeping requirements, Tires.

In consideration of the foregoing, NHTSA amends 49 CFR 571.206 as follows:

PART 571—FEDERAL MOTOR VEHICLE SAFETY STANDARDS

1. The authority citation for Part 571 continues to read as follows:

Authority: 49 U.S.C. 322, 30111, 30115, 30117 and 30166; delegation of authority at 49 CFR 1.50.

2. Section 571.206 is amended by adding S4.2.2.3, to read as follows:

§ 571.206 Standard 206; Door locks and door retention components.

* * * * *

S4.2.2.3 This S4.2.2.3 applies to vehicle manufactured on or after September 1, 2010.

* * * * *

Issued on: July 14, 2009.
Ronald L. Medford,
Acting Deputy Administrator.

[FR Doc. E9-17078 Filed 7-17-09; 8:45 am]

BILLING CODE 4910-59-P